DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis.

Title: Quarterly Survey of Transactions in Selected Services and Intangible Assets with Foreign Persons.

Form Number(s): BE-125.

Agency Approval Number: 0608-0067.

Type of Request: Extension of a currently approved collection.

Burden: 98,800 hours.

Number of Respondents: 2200.

Average Hours per Response: 16 hours for mandatory responses and 1 hour per other responses.

Needs and Uses: The Government requires data from the BE-125, Quarterly Survey of Transactions in Selected Services and Intangible Assets with Foreign Persons, to obtain accurate and up-to-date information on transactions in selected services and intangible assets with foreign persons. It will use the data collected in monitoring U.S. exports and imports of these services and intangible assets, analyzing their impact on the U.S. and foreign economies, supporting U.S. international commercial policy on such services and intangible assets, compiling the international transactions, national income and product, and input-output accounts of the United States, assessing U.S. competitiveness in international trade in services and intangible assets, and improving the ability of U.S. businesses to identify and evaluate market opportunities.

Affected Public: Businesses or other for-profit organizations and non-profit organizations.

Frequency: Quarterly.

Respondents Obligation: Mandatory.

Legal Authority: Title 22 U.S.C., Sections 3101-3108, as amended.

OMB Desk Officer: Paul Bugg, (202) 395-3093.

You may obtain copies of the above information collection proposal by writing Departmental Paperwork Clearance Officer, Diana Hynek, Department of Commerce, Room 7845, 14th and Constitution Avenue, NW., Washington, DC 20230 or via the Internet at dhynek@doc.gov.

Send comments on the proposed information collection within 30 days of publication of this notice to Paul Bugg, OMB Desk Officer, via e-mail at pbugg@omb.eop.gov or by fax at (202) 395-7245.

Dated: October 30, 2009.
Glenna Mickelson,
Management Analyst, Office of Chief Information Officer.

[FR Doc. E9-26517 Filed 11-3-09; 8:45 am]

BILLING CODE 3510-06-P